DEPARTMENT OF AGRICULTURE

Forest Service

Custer County Resource Advisory Committee

AGENCY: Forest Service, USDA.

ACTION: Notice of meeting.

SUMMARY: The Custer County Resource Advisory Committee will meet in Custer, South Dakota. The committee is meeting as authorized under the Secure Rural Schools and Community Self-Determination Act (Pub. L. 110-343) and in compliance with the Federal Advisory Committee Act. The purpose of the meeting is review of project proposals to be implemented in 2011.

DATES: The meeting will be held November 16, 2010 at 5:30 p.m.

ADDRESSES: The meeting will be held at 1019 N 5th Street at the Office of the Forest Supervisor. Written comments should be sent to 330 MT Rushmore Rd., Custer, South Dakota 57730. Comments may also be sent via e-mail to lkolund@fs.fed.us, or via facsimile to 605-673-5461.

All comments, including names and addresses when provided, are placed in the record and are available for public inspection and copying. The public may inspect comments received at 330 MT Rushmore Rd., Custer, SD. Visitors are encouraged to call ahead to 605-673-4853 to facilitate entry into the building.

FOR FURTHER INFORMATION CONTACT: Lynn Kolund, District Ranger, Hell Canyon Ranger District, 605-673-4853,lkolund@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: Review of Project Proposals for implementation in 2011. Persons who wish to bring related matters to the attention of the Committee may file written statements with the Committee staff before or after the meeting. Public input sessions will be provided and individuals who made written requests by November 12, 2010 will have the opportunity to address the Comittee at those sessions.

Dated: November 1, 2010.
Lynn D. Kolund,
District Ranger.

[FR Doc. 2010-27988 Filed 11-4-10; 8:45 am]

BILLING CODE 3410-11-P